FEDERAL MINE SAFETY AND HEALTH REVIEW COMMISSION

Sunshine Act Notice

February 24, 2014.

TIME AND DATE: 2:00 p.m., Thursday, March 6, 2014.

PLACE: The Richard V. Backley Hearing Room, Room 511N, 1331 Pennsylvania Avenue NW., Washington, DC 20004 (entry from F Street entrance).

STATUS: Open.

MATTERS TO BE CONSIDERED: The Commission will consider and act upon the following in open session: Secretary of Labor v. Twentymile Coal Co., Docket Nos. WEST 2009-241, et al., and Secretary of Labor v. Twentymile Coal Co., Docket Nos. WEST 2009-1323, et al. (Issues include whether the Administrative Law Judge erred in affirming citations for failing to provide additional insulation for a communications circuit.) Public meetings in these matters have twice been postponed because of severe weather problems.

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2014-04492 Filed 2-25-14; 4:15 pm]

BILLING CODE 6735-01-P